NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Crafting Optimal Learning in Science Environments—Reverse Site Visit (#10749).

Date and Time: October 12, 2018; 8:00 a.m.-5:30 p.m.

Place: National Science Foundation, 2415 Eisenhower Avenue, Alexandria, Virginia 22314.

Type of Meeting: Part—Open.

Contact Person: Cassandra Dudka, PIRE Program Manager, National Science Foundation, 2415 Eisenhower Avenue, Alexandria, VA 22314; Telephone 703/292-7250.

Purpose of Meeting: NSF reverse site visit to conduct a review during year 3 of the five-year award period. To conduct an in-depth evaluation of performance, to assess progress towards goals, and to provide recommendations.

Agenda: See attached.

Reason for Closing: Topics to be discussed and evaluated during closed portions of the reverse site review will include information of a proprietary or confidential nature, including technical information; and information on personnel. These matters are exempt under 5 U.S.C. 552b(c), (4) and (6) of the Government in the Sunshine Act.

Dated: September 7, 2018.
Crystal Robinson,
Committee Management Officer.

Partnerships for International Research and Education (PIRE) Reverse Site Visit Agenda PIRE-1545684 (PI: Barbara Schneider)

NSF Room C3080

Friday, October 12, 2018

8:00 a.m. Panelists arrive. Coffee/light refreshments available

8:15 a.m.-8:45 a.m. Panel Orientation (CLOSED), PIRE Rationale and Goals, Charge to Panel

8:45 a.m. PIs arrive. Introductions (OPEN)

9:00 a.m.-11:30 a.m. PIRE Project Presentation should cover the following: (OPEN)

Research

Integrating Research & Education

Students (e.g. involvement in project, recruitment, diversity)

Project Management and Communication

Evaluation & Assessment

Institutional Support

International Partnerships

11:30 a.m.-12:30 p.m. Questions and Answers

12:30 p.m.-2:00 p.m. Working Lunch—Panel Discussion (CLOSED)

2:00 p.m.-2:30 p.m. Initial Feedback to Project Team (CLOSED)

2:30 p.m. PIRE PI and presenters are dismissed

2:30 p.m.-4:30 p.m. Panel meets for Reverse Site Visit Report Preparation (CLOSED)

4:30 p.m.-4:45 p.m. Report presented to and discussion held with NSF staff (CLOSED)

5:00 p.m. End of Reverse Site Visit

[FR Doc. 2018-19891 Filed 9-12-18; 8:45 am]

BILLING CODE 7555-01-P